DEPARTMENT OF JUSTICE

Notice of Lodging of Proposed Consent Judgment Under the Comprehensive Environmental Response, Compensation, and Liability Act (“CERCLA”)

On June 5, 2023, the Department of Justice lodged a proposed Consent Judgment with the United States District Court for the Eastern District of New York in the lawsuit entitled United States of America v. City of New York, Civil Action No. 1:23-CV-4129.

The United States filed this lawsuit under sections 106(a) and 107(a) of the Comprehensive Environmental Response, Compensation, and Liability Act (“CERCLA”), 42 U.S.C. 9606(a) and 9607(a) in connection with the Wolff-Alport Chemical Company Superfund Site (the “Site”) in Ridgewood, Queens County, New York. The complaint seeks injunctive relief to remediate radioactive materials on New York City-owned property located near the former Wolff-Alport Chemical Company facility and cost recovery. The Wolff-Alport Chemical Company's operations resulted in the release of residues containing radioactive materials, including thorium and uranium along with their decay products, such as radium. On September 26, 2017, EPA selected a remedy for the Site.

The Consent Judgment requires the City of New York to pay the United States approximately $1.6 million for past costs incurred by the U.S. Environmental Protection Agency related to addressing conditions at the New York City-owned property. The Consent Judgment also requires the City of New York to fund and perform remedial work on New York City-owned property, including the removal of soil and sediments exhibiting levels exceeding the remediation goals in the impacted sewers and beneath the roadway and sidewalks.

The publication of this notice opens a period for public comment on the proposed Consent Judgment. Comments should be addressed to the Assistant Attorney General, Environment and Natural Resources Division, Environmental Enforcement Section, and should refer to United States of America v. City of New York, Civil Action No. 1:23-CV-4129, D.J. Ref. No. 90-11-3-11741/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgment may be examined and downloaded at this Justice Department website: https://www.justice.gov/enrd/consent-decrees. We will provide a paper copy of the Consent Judgment upon written request and payment of reproduction costs. Please mail your request and payment to: Consent Decree Library, U.S. DOJ—ENRD, P.O. Box 7611, Washington, DC 20044-7611.

Please enclose a check or money order for $93.50 (25 cents per page reproduction cost) for the Consent Judgment with appendix, or $10.00 for the Consent Judgment without the appendix, payable to the United States Treasury.

Henry Friedman,
Assistant Section Chief, Environmental Enforcement Section, Environment and Natural Resources Division.

[FR Doc. 2023-12294 Filed 6-8-23; 8:45 am]

BILLING CODE 4410-15-P